DEPARTMENT OF TRANSPORTATION

Federal Highway Administration

[Docket No. FHWA-2025-0367]

Notice of Intent To Prepare an Environmental Impact Statement for a Proposed Highway Project; Milwaukee County, Wisconsin

AGENCY: Federal Highway Administration (FHWA), Department of Transportation (USDOT).

ACTION: Notice.

SUMMARY: FHWA, in coordination with the Wisconsin Department of Transportation (WisDOT), is issuing this Notice of Intent (NOI) to solicit comment and advise the public, agencies, and stakeholders that an Environmental Impact Statement (EIS) will be prepared to study potential improvements to Interstate 794 (I-794) in Milwaukee County, Wisconsin. The study corridor includes approximately 1.5 miles of I-794, including a service interchange referred to as the Lake Interchange, and extends generally from the I-794 and I-43/I-94 system interchange (Marquette Interchange) to the Daniel W. Hoan Bridge. The Study is not considering changes to the main span of the Daniel W. Hoan Bridge and will not impact the core function of the Marquette Interchange.

DATES: Comments on this NOI and the Supporting Information Documents must be received on or before January 5, 2026.

ADDRESSES: This NOI and the Supporting Information Documents are available in the docket referenced above at https://www.regulations.gov/ and on the study website located at https://www.794lakeinterchange.wisconsindot.gov/. The NOI Supporting Information Documents also will be provided in hard copy upon request. Interested parties are invited to submit comments by any of the following methods:

Website: For access to the documents, go to the Federal Rulemaking Portal located at https://www.regulations.gov/ or follow the online instructions on the Public Involvement page for submitting comments at https://www.794lakeinterchange.wisconsindot.gov/.

Mailing address or for hand delivery or courier: Federal Highway Administration Wisconsin Division, 525 Junction Road, Suite 8000, Madison, WI 53717.

Email address: bethaney.bacher-gresock@dot.gov

All submissions should include the agency name and the docket number that appears in the heading of this notice. All comments received will be posted without change to https://www.regulations.gov/, including any personal information provided. A summary of the comments received will be included in the Draft EIS.

FOR FURTHER INFORMATION CONTACT:

FHWA: Bethaney Bacher-Gresock, Environmental Specialist, Federal Highway Administration—Wisconsin Division, 525 Junction Road, Suite 8000, Madison, WI 53717; email: bethaney.bacher-gresock@dot.gov; 608-662-2119.

WisDOT: David Pittman, PE, Project Manager, Wisconsin Department of Transportation, 141 NW Barstow St, Waukesha, WI 53188, david.pittman@dot.wi.gov, 262-548-5601.

Persons interested in receiving study information can join the study contact list available from the study website located at https://www.794lakeinterchange.wisconsindot.gov/. Follow the online instructions to join the study contact list to receive updates.

SUPPLEMENTARY INFORMATION: FHWA, as the lead Federal agency, and WisDOT as joint lead agency, are preparing an EIS to evaluate transportation solutions for the Lake Interchange on I-794 in the city of Milwaukee, Milwaukee County, Wisconsin. The EIS will be prepared in accordance with the requirements of the National Environmental Policy Act (NEPA) of 1969, as amended (42 U.S.C. 4321, et seq.), 23 U.S.C. 139, FHWA regulations implementing NEPA (23 CFR 771), and applicable Federal, State, and local laws and regulations.

FHWA and WisDOT are committed to public involvement for this study. FHWA and WisDOT also request comments and suggestions on the identification of any relevant information, studies, or analyses of any kind concerning impacts to the quality of the human and natural environment. All public comments received in response to this NOI will be considered and potential revisions made to the information presented herein as appropriate.

Preliminary Purpose and Need for the Proposed Action

The purpose of the project is to address deteriorating infrastructure in a manner that improves safety and operations within the study corridor, while also striving to enhance community connectivity and compatibility with local plans and development. The Study is driven by the following project needs:

• Bridge conditions. There are 55 bridges throughout the study corridor, 28 of the 35 original bridges constructed in the 1970s and 1980s are continuous concrete bridges that are approaching the end of their service life.

• Substandard roadway design and geometric features. Several areas of the existing facility do not meet current roadway design standards including horizontal and vertical curvature, superelevation, cross section (i.e. shoulder widths), horizontal sightline offsets, and vertical clearances.

• Safety conditions. Safety concerns along the study corridor are related to substandard roadway design, confusing intersection configurations, and occasional congestion during peak periods and special events. The crash rate on the mainline in the study corridor exceeds the four-lane freeway statewide average crash rate.

• Traffic operations. Peak hour operations along the freeway in 2050 are projected to operate at or above Level of Service (LOS) D, meeting WisDOT acceptable criteria. Seven existing (2022) I-794 ramps/surface street intersections have complex configurations resulting in an unacceptable LOS E or F. By 2050, nine intersections are expected to operate at LOS E or F.

• System linkages. I-794 is part of the National Highway System (NHS), the Strategic Highway Network (STRAHNET), and connects directly to I-43 and I-94 at the Marquette Interchange. I-794 is part of the National Highway Freight Network (NHFN) and serves as a WisDOT Oversize-Overweight (OS/OW) truck route and a long truck route. I-794 also connects to Milwaukee's Intermodal Station with Amtrak and Greyhound intercity bus services, the Lake Express Ferry terminal, and General Mitchell International Airport.

• Discontinuous bicycle and pedestrian accommodations. The study corridor includes several gaps in the sidewalk and bicycle network along local streets which increases opportunity for conflicts between vehicles, bicyclists, and pedestrians.

• Land use and community compatibility. The elevated I-794 creates a concrete canopy over the local street system and various land use types adjacent to and under the freeway within Milwaukee's densely developed downtown area. Opportunities to enhance existing uses in the study area and opportunities for possible new development, activation of spaces, improved bicycle/pedestrian accommodations, or additional green or recreational spaces will be considered through alternative development and evaluation.

Additional detail on the preliminary purpose and need is included in the NOI's supplemental information documents. The purpose and need may be revised based on consideration of public and agency comments received during the comment period for this NOI and during the development of the Draft EIS.

Preliminary Description of Alternatives the Environmental Impact Statement Will Consider

FHWA and WisDOT are developing a range of alternatives for detailed study in the Draft EIS. The No Build alternative and several build alternatives will be considered. Capacity expansion is not anticipated.

The No Build alternative assumes no major rehabilitation improvements to or replacement of the 28 bridges and other structures nearing the end of their useful life would be undertaken. Only routine maintenance and repairs would be completed to maintain the safety of the traveling public. At some point, maintenance repairs would no longer be cost effective, and the deteriorating structural conditions could result in restrictions on vehicle weights or the closure of I-794 due to poor bridge conditions.

The Replace in Kind alternative would reconstruct the freeway and all existing service ramps in generally the same configuration. The 28 bridges that are nearing the end of their service life would be replaced. Some outdated design features would be addressed by the alternative including improvements to shoulder widths, stopping sight distances and superelevation. Substandard elements related to horizontal and vertical curvature and vertical clearance would remain. There may be potential for geometric improvements at select intersections as well as bicycle and pedestrian improvements at spot locations.

The Freeway Improvement alternative with left-hand ramps at Jackson/Van Buren would reconstruct I-794 and the Lake Interchange as an elevated four-lane freeway facility. The mainline would be reconstructed along a slightly modified alignment to enhance safety by improving substandard design features including shoulder widths, horizontal curvature, stopping sight distances, superelevation, and vertical clearance. The proposed alignment would shift the freeway structures slightly south while maintaining a gap between the eastbound and westbound mainlines.

Access to and from the west would be provided at Jackson Street and Van Buren Street. These ramps would be placed on the inside of the mainlines with left-hand service ramps similar to the current configuration. Northbound and southbound freeway access would remain at Lincoln Memorial Drive with new right-hand service ramp configurations that are shifted south to a new intersection at an extended St. Paul Avenue. The existing Broadway, Milwaukee Street, and two Lakefront ramps would be eliminated under this alternative.

New surface street connections and modifications would be required to accommodate the consolidation of freeway access within the Lake Interchange. New street connections include a bidirectional Clybourn Street from Plankinton Avenue to Lincoln Memorial Drive, a St. Paul Avenue extension to Lincoln Memorial Drive, and a “Cass Street” extension from Clybourn Street to Harbor Drive. A new unnamed surface street would connect the Jackson Street and Van Buren Street service ramps with Lincoln Memorial Drive. The surface street network improvements could provide new and improved pedestrian and bicycle accommodations on the surface street network.

The proposed Freeway Improvement alternative with right-hand ramps at Jackson/Van Buren would reconstruct I-794 and the Lake Interchange as an elevated four-lane freeway facility. The freeway mainline would be reconstructed along a slightly modified alignment to enhance safety by improving substandard design features including shoulder widths, horizontal curvature, stopping sight distances, superelevation, and vertical clearance. The proposed alignment would shift the freeway structures south and generally close the gap between the eastbound and westbound mainlines.

Access to and from the west would be provided at Jackson Street and Van Buren Street. These ramps would be placed on the outside of the mainlines with service ramps on the right-hand side of the freeway. Northbound and southbound access to I-794 would remain at Lincoln Memorial Drive with right-hand service ramp configurations that are shifted south to a new intersection at St. Paul Avenue. The Broadway, Milwaukee Street, and the two Lakefront ramps would be eliminated under this alternative. The surface street network changes and the proposed bicycle and pedestrian accommodations for this alternative would be the same as the Freeway Improvement alternative with left-hand ramps at Jackson/Van Buren described above.

The proposed Freeway Removal alternative would remove the elevated I-794 between the Marquette Interchange and the Daniel W. Hoan Bridge. The alternative would replace the existing I-794 bridges with a new boulevard on Clybourn Street between 6th Street and Lincoln Memorial Drive. The new infrastructure would no longer be a federal Interstate, necessitating changes in roadway ownership, jurisdiction, and related administrative policies. The Freeway Removal alternative would not change the core function of the Marquette Interchange and would retain the main span of the Daniel W. Hoan Bridge. The removal of I-794 is expected to divert traffic to the remaining interstate system and surface street network adjacent to the study corridor and throughout Milwaukee County.

Regional freeway access would be on the west side of the study corridor at the Marquette Interchange. Eastbound and westbound freeway access would be from a new ramp connecting I-94 to Clybourn Street at 6th Street. Southbound and northbound freeway access would be from reconfigured I-43 and I-43/94 ramps that connect mid-block at 2nd Street. On the east side of the study corridor, reconfigured ramps from the Daniel W. Hoan Bridge would connect to a newly created intersection at Lincoln Memorial Drive near Buffalo Street.

The proposed Freeway Removal alternative would include new surface street connections and roadway modifications to disperse traffic throughout the surface street network. New connections include a divided bidirectional Clybourn Street from 6th Street to Lincoln Memorial Drive, a St. Paul Avenue extension to Lincoln Memorial Drive, and a “Cass Street” extension from Clybourn Street to Harbor Drive. A new moveable Clybourn Street bridge over the Milwaukee River would be required to accommodate the new roadway cross section and to maintain navigability on the river. The new ramp connection from I-94 would require the expansion of the Clybourn and 6th Street intersection and the closure of James Lovell Street at Clybourn Street. Vel R. Phillips Avenue would be reconstructed to accommodate the relocation of the sidetrack for The Hop Operations and Maintenance Facility. Second Street and Plankinton Avenue would be reconstructed, and a connecting road would be built between the two streets to facilitate freeway ramp access to and from I-43 at the surface street network. This would eliminate the 3rd Street connection between Clybourn Street and St. Paul Avenue. The surface street network improvements could provide new and improved pedestrian and bicycle accommodations on the surface street network.

Alternatives may be revised based on the consideration of public and agency comments. The range of reasonable alternatives will be finalized after consideration of comments received during the comment period on this notice and will be documented in the Draft EIS.

Summary of Expected Impacts

FHWA and WisDOT will seek input from the public and agencies during the EIS development process regarding the impacts of the project. The EIS will evaluate the reasonably foreseeable (beneficial or adverse) social, economic, and environmental impacts resulting from the implementation of the No Build, Replace in Kind, Freeway Improvement, and Freeway Removal alternatives as well as avoidance and mitigation measures for unavoidable adverse effects. WisDOT identified preliminary impacts in the supporting information documents for the NOI.

The following key resources and issues have been identified for evaluation in the EIS and supporting technical studies:

• Right of Way Acquisitions and Relocations: The Study's build alternatives are expected to acquire little to no new permanent right of way. Therefore, no business, institutional, or residential relocations are expected. Temporary construction easements may be required under each build alternative. During the environmental review phase, each alternative will be evaluated further for right of way needs and/or potential surplus properties.

• Community Resources: The No Build alternative could, over time, negatively impact the neighborhoods, community facilities, and residences adjacent to the study corridor as infrastructure would continue to deteriorate and access to these resources could be impacted if I-794 was closed due to poor bridge conditions.

The Replace in Kind alternative would not directly impact the neighborhoods, community facilities, and residences adjacent to the study corridor and it would retain existing freeway access and travel routes to community resources. It would also retain the regional freeway system connection to communities north and south of the study corridor in Milwaukee County. This alternative would not address public concerns related to the compatibility of I-794 infrastructure with adjacent neighborhoods, or bicycle and pedestrian connectivity within an improved surface street network.

The Freeway Improvement alternatives would improve community connectivity between adjacent neighborhoods by expanding the surface street grid and providing new pedestrian and bicycle accommodations. Consolidated service ramps would provide convenient freeway access to adjacent neighborhoods, community facilities, and residences. The elimination of five-leg intersections would encourage slower speeds and simplify interactions between vehicular and non-vehicular traffic. The Freeway Improvement alternatives also maintain I-794 linkages to the regional freeway system for downtown neighborhoods and Milwaukee County communities to the south and north.

The Freeway Removal alternative would establish a visual connection between downtown neighborhoods and improve neighborhood connectivity by expanding the surface street network and providing new pedestrian and bicycle accommodations. Freeway access would be consolidated at the west side of the study corridor resulting in changes to travel routes to and from neighborhoods, community facilities, and residences and increased utilization of the street grid. An expanded street grid would provide new route options for people to reach destinations, but travel along signal-controlled streets may increase travel times for some trips. The Freeway Removal alternative would not maintain the I-794 regional freeway system connection to communities to the south and north in Milwaukee County and would result in greater use of I-43 and other arterials from traffic diversion in Milwaukee County.

• Business and Economic: The No Build alternative could, over time, negatively impact businesses and business districts adjacent to the study corridor by not maintaining infrastructure in a state of good repair, impacting the movement of people and goods that rely on I-794 for connectivity to the regional freeway system.

The Replace in Kind alternative would continue to provide existing levels of freeway access and connectivity for vehicles and trucks that utilize the regional freeway system to access downtown, Port Milwaukee, and the business areas in communities to the north and south in Milwaukee County. However, this alternative would not provide opportunities to improve connectivity between business districts in the downtown area as no new streets and/or bicycle and pedestrian accommodations would be provided. The continued presence of the I-794 infrastructure, similar to the existing configuration, would not expand potential economic activity in the study corridor.

The Freeway Improvement alternatives would continue to facilitate the movement of goods and people along I-794 to access downtown, Port of Milwaukee, and business areas in Milwaukee County communities to the south and north. The consolidated ramps would maintain freeway access to adjacent businesses and business districts. Once off the freeway, some routes to businesses may change slightly but new street connections and bicycle and pedestrian accommodations would overall improve connectivity to major employment areas in downtown, businesses in the Historic Third Ward, and the many tourist and entertainment destinations in the area. The potential surplus property associated with these alternatives could create opportunities for additional economic activity in the study corridor.

The Freeway Removal alternative would not maintain interstate designation through the corridor. This could impact the movement of goods and people along this corridor and vehicles and trucks utilizing the regional freeway system to access downtown, Port Milwaukee, and business areas in Milwaukee County communities to the south and north. The Freeway Removal alternative would change freeway access for businesses and business districts in the area and may increase travel times for some trips in the downtown area. Since there would be no fixed bridge route over the Milwaukee River, travel times to destinations and special events in the downtown and Lakefront areas could be impacted when the movable bridges are operating.

The Freeway Removal alternative could improve connectivity between business districts in downtown and the Historic Third Ward by expanding the surface street grid and providing improved bicycle and pedestrian accommodations. Eliminating the elevated freeway infrastructure to the east of the river could provide the most potential surplus property which could create opportunities for additional economic activity in the study corridor.

• Land Use: The No Build and Replace in Kind alternatives would retain the existing 2.7-acre vacant state-owned parcel in the southwest quadrant of the Lincoln Memorial Drive and Clybourn Street intersection for possible future development. No new surplus property would become available.

The Freeway Improvement alternatives would reduce the footprint of the freeway and may result in surplus property that is no longer needed for highway-related transportation purposes, creating opportunities for potential new development. The Freeway Improvement alternatives may provide up to 6 or 7 acres of surplus property that meets minimum development standards. Acres are subject to change.

The Freeway Removal alternative would remove much of the elevated freeway infrastructure in the study corridor which may result in surplus property that is no longer needed for highway-related transportation purposes, creating opportunities for potential new development. The Freeway Removal alternative may provide up to 16 acres of surplus property that meets minimum development standards. Acres are subject to change.

• Section 106: In accordance with Section 106 of the National Historic Preservation Act (NHPA) and NEPA, effects to historic properties will be evaluated in consultation with the Wisconsin State Historic Preservation Officer (SHPO), Native American Tribes, and other consulting parties for all build alternatives. Historic sites within and near the study corridor include two historic districts, the Historic Third Ward District and the East Side Commercial Historic District, and four properties listed on the National Register of Historic Places: the John Pritzlaff Hardware Co., Wisconsin Leather Co., Public Service Building, and the Gimbels Parking Pavilion. A review of archaeological literature confirmed the study area has been previously disturbed and nine previously identified sites are within the study area. Other potential resources may be present within and in the vicinity of the study corridor, but not yet inventoried in the databases.

• Section 4(f) Properties: The build alternatives may affect publicly owned parks and recreational areas, and public and private historical sites listed or eligible for listing on the National Register of Historic Places that are subject to protection under Section 4(f) of the Department of Transportation Act of 1966 (Section 4(f)). Section 4(f) protected public parks and recreational areas within and near the study corridor include the Milwaukee Riverwalk, Hank Aaron State Trail, and Oak Leaf Trail. Historic sites within and near the study corridor include two historic districts and four historic properties (named above). Potential uses of Section 4(f) properties will be evaluated, avoided, or minimized during development of the EIS and the Section 4(f) evaluation.

• Waterways: The build alternatives may result in the construction of a new bridge, the reconstruction or modification of an existing bridge, construction of a temporary bridge, or no changes to existing bridges across navigable waters of the U.S. under the jurisdiction of the U.S. Coast Guard. The Freeway Improvement alternative with right-hand ramps at Jackson/Van Buren may require reconstruction of the westbound I-794 bridge over the Milwaukee River. The Freeway Removal alternative may require removal of I-794 bridges over the Milwaukee River and reconstruction and widening of the moveable Clybourn Street bridge over the Milwaukee River. If the I-794 bridges over the Milwaukee River are removed, the steam facility infrastructure at the Milwaukee River may need to be reconstructed or relocated. Construction of bridges and facilities over the river must meet navigational clearance requirements as the Milwaukee River is a commercially navigable Water of the U.S.

• Floodplains: The Freeway Improvement alternative with right-hand ramps at Jackson/Van Buren and Freeway Removal alternative could impact bridges over the Milwaukee River. Proposed bridge work may alter bridge abutments and/or piers in the Milwaukee River, which may impact the floodway. Measures to avoid, minimize, and mitigate flood risks to the floodplain will be taken.

• Threatened and Endangered Species: Federal- and state-listed species may occur in the study corridor. FHWA and WisDOT will determine effects through alternatives refinement, United States Fish and Wildlife (USFWS) Section 7 consultation, and coordination with the WDNR under the WisDOT/WDNR Cooperative Agreement.

• Noise: Noise sensitive receptors, including residences, parks, schools, and churches are present throughout the study corridor. FHWA and WisDOT will identify impacts during the development of the EIS.

• Construction: The build alternatives would have temporary construction impacts related to public safety, construction noise and dust, and inconveniences related to traffic detours and congestion during construction.

Supplemental information on the purpose and need statement, alternatives, and potential project environmental impacts is provided within the NOI supporting information documents available for review in the docket established for this Study and on the study website as noted in the ADDRESSES section. FHWA and WisDOT are inviting public input during the NOI comment period. The identification of impacts for analysis in the Draft EIS may be revised due to the consideration of public comments.

Anticipated Permits and Other Authorizations

Permits and authorizations anticipated for the project include a Section 401 water quality certification and a Section 404 permit under the Clean Water Act (33 U.S.C. 1344). Section 9 and Section 10 permits under the Rivers and Harbors Act are also anticipated. FHWA and WisDOT will prepare evaluations under Section 4(f) of the USDOT Act of 1966 (23 U.S.C. 138 and 49 U.S.C. 303) and Section 6(f) of the Land and Water Conservation Fund Act of 1965 (54 U.S.C. 200302), perform consultation under Section 106 of the National Historic Preservation Act of 1966 (54 U.S.C. 300101-307108) concurrently with the NEPA environmental review process, and will consult with USFWS in accordance with Section 7 of the Endangered Species Act of 1973 (16 U.S.C. 1531 et seq.). FHWA and WisDOT will also work with Cooperating Agencies and Participating Agencies to determine if additional permits or authorizations are required under these or other authorities.

Schedule for the Decision-Making Process

After this NOI is issued, WisDOT will coordinate with the Cooperating and Participating Agencies to develop study documentation and the Draft EIS. The Draft EIS is anticipated to be issued in October 2026. The combined Final EIS and Record of Decision is anticipated to be issued in May 2027. Per 23 U.S.C. 139(d)(10), permits and authorizations should be completed by no later than 90 days after the issuance of the Record of Decision. However, for this project WisDOT has requested in accordance with 23 U.S.C. 139(d)(10)(C)(ii) that the 404 permit and 401 water quality certification follow a different timeline because the construction date is not expected until 2030 or later.

Description of Agency and Public Review and Scoping Process

Prior to the initiation of the EIS, WisDOT hosted a series of public meetings for the Study. The first public meetings were held on August 1 and 2, 2023, to provide an opportunity for the public to learn about the I-794 study process, draft purpose and need, and preliminary design concepts. A subsequent public meeting on May 29, 2025, presented the four build alternatives described above. WisDOT held the last public meetings prior to the initiation of the EIS on November 4 and 5, 2025, to present preliminary evaluation criteria and traffic analysis results to the public. FHWA and WisDOT hosted an early agency introductory meeting with potential Cooperating and Participating Agencies on August 21, 2025, to brief agencies on the anticipated NEPA milestone schedule, the Study's purpose and need, and alternatives anticipated to be evaluated during the NEPA process. The public and agency scoping process is continuing with the publication of this NOI.

Meetings with the public and Cooperating and Participating Agencies will be held throughout the environmental review process. The draft Coordination Plan for Agency and Public Involvement included within the supporting information documents for the NOI describes how the public and agencies will continue to be engaged during EIS development. The Draft EIS will be available for public and agency review and comment prior to the Public Hearing.

Request for Comments on the Identification of Potential Alternatives, Information, and Analyses Relevant to the Proposed Action

The supporting information documents for the NOI include the preliminary purpose and need statement, preliminary range of alternatives, draft Impact Analysis Methodology Report, and the draft Coordination Plan for Agency and Public Involvement, including the NEPA milestones and permit schedules. With this notice, FHWA and WisDOT request and encourage State, tribal, and local agencies, and the public to review the NOI and the supporting information and submit comments on any aspect of the Study. Specifically, agencies and the public are asked to identify and submit potential alternatives for consideration and any information, such as anticipated significant issues or environmental impacts and analyses relevant to the proposed study for consideration by the Lead, Cooperating, and Participating Agencies in developing the Draft EIS. Any information presented herein, including the purpose and need, alternatives, and anticipated impacts may be revised after consideration of the comments. Comments may be submitted according to the instructions in the ADDRESSES section of this notice. Comments must be received by January 5, 2026.

Any questions concerning this proposed action, including comments relevant to alternatives, information, and analyses, should be directed to FHWA or WisDOT at the physical addresses, email addresses, or phone numbers provided in the FOR FURTHER INFORMATION CONTACT section of this notice.

Authority: 42 U.S.C. 4321 et seq.; 23 U.S.C. 139; 23 CFR part 771.

Linda Swann,
Acting Division Administrator, FHWA Wisconsin Division, Madison, Wisconsin.

[FR Doc. 2025-22012 Filed 12-4-25; 8:45 am]

BILLING CODE 4910-RY-P